ENVIRONMENTAL PROTECTION AGENCY

[FRL-8949-6]

Availability of FY 08 Grantee Performance Evaluation Reports for the Eight States of EPA Region 4 and 16 Local Agencies

AGENCY: Environmental Protection Agency (EPA).

ACTION: Notice of availability; Clean Air Act Section 105 grantee performance evaluation reports.

SUMMARY: EPA's grant regulations (40 CFR 35.115) require the Agency to evaluate the performance of agencies which receive grants. EPA's regulations for regional consistency (40 CFR 56.7) require that the Agency notify the public of the availability of the reports of such evaluations. EPA performed end-of-year evaluations of eight state air pollution control programs (Alabama Department of Environmental Management; Florida Department of Environmental Protection; Georgia Department of Natural Resources; Commonwealth of Kentucky Department for Environmental Protection; Mississippi Department of Environmental Quality; North Carolina Department of Environment and Natural Resources; South Carolina Department of Health and Environmental Control; and Tennessee Department of Environment and Conservation) and 16 local programs (City of Huntsville Division of Natural Resources, AL; Jefferson County Department of Health, AL; Broward County Environmental Protection Department, FL; City of Jacksonville Environmental Quality Division, FL; Hillsborough County Environmental Protection Commission, FL; Miami-Dade County Air Quality Management Division, FL; Palm Beach County Health Department, FL; Pinellas County Department of Environmental Management, FL; Louisville/Jefferson County Metro Government, KY; Forsyth County Environmental Affairs Department, NC; Mecklenburg County Land Use and Environmental Services Agency, NC; Western North Carolina Regional Air Quality Agency, NC; Chattanooga-Hamilton County Air Pollution Control Bureau, TN; Memphis-Shelby County Health Department, TN; Knox County Department of Air Quality Management, TN; and Metropolitan Government of Nashville and Davidson County Public Health Department, TN). The 24 evaluations were conducted to assess the agencies' Fiscal Year 2008 performance under the grants awarded by EPA under authority of section 105 of the Clean Air Act. EPA Region 4 has prepared reports for each agency identified above and these reports are now available for public inspection.

ADDRESSES: The reports may be examined at the EPA's Region 4 office, 61 Forsyth Street, SW., Atlanta, Georgia 30303, in the Air, Pesticides and Toxics Management Division. The Regional Office's official hours of business are Monday through Friday, 8:30 to 4:30, excluding Federal holidays.

FOR FURTHER INFORMATION CONTACT: Marie Persinger (404) 562-9048 for information concerning the state and local agencies of Alabama, Kentucky and state agency of Mississippi; Miya Smith (404) 562-9091 for the state and local agencies of Florida; Mary Echols (404) 562-9053 for the state agency of Georgia; Seema Rao (404) 562-8429 for the state and local agencies of North Carolina; and Marilyn Sabadaszka (404) 562-9001 for the state agency of South Carolina and for the state and local agencies of Tennessee. They may be contacted at the above Region 4 address.

Dated: August 5, 2009.
Beverly H. Banister,
Acting Regional Administrator, Region 4.

[FR Doc. E9-22906 Filed 9-22-09; 8:45 am]

BILLING CODE 6560-50-P